ENVIRONMENTAL PROTECTION AGENCY

[OA-2003-0009, FRL-7618-8]

Agency Information Collection Activities: Proposed Collection; Comment Request; Information Collection Request for Obtaining Feedback on Public Involvement Activities and Processes, EPA ICR Number OA-2003-0009

AGENCY: Environmental Protection Agency (EPA).

ACTION: Notice.

SUMMARY: In compliance with the Paperwork Reduction Act (44 U.S.C. 3501 et seq.), this notice announces that the EPA is planning to submit a request for a new Information Collection Request (ICR) to the Office of Management and Budget (OMB). Before submitting the ICR to OMB for review and approval, the EPA is soliciting comments on specific aspects of the proposed information collection as described below.

DATES: Comments must be submitted on or before March 15, 2004.

ADDRESSES: Submit your comments, referencing docket ID number OA-2003-0009, to EPA online using EDOCKET (our preferred method), by e-mail to oei.docket@epa.gov, or by mail to EPA Docket Center, OEI Docket Mail Code—2822T, 1200 Pennsylvania Ave, NW., Washington, DC 20460.

FOR FURTHER INFORMATION CONTACT: Pat Bonner, Office of the Administrator/ Public Involvement Staff—Mail Code 1807T, Environmental Protection Agency, 1200 Pennsylvania Avenue, NW., Washington, DC 20460; telephone number: 202-566-2204; fax number: 202-566-2200 and e-mail: bonner.patricia@epa.gov.

SUPPLEMENTARY INFORMATION: EPA has established a public docket for this ICR under Docket ID number OA-2003-0009 which is available for public viewing within the Office of Environmental Information (OEI) Docket of the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI's Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected entities: Entities and individuals potentially affected by this action are those who participate in EPA public involvement activities.

Title: Obtaining Feedback on Public Involvement Activities.

Abstract: Individuals who participate in EPA public involvement activities directly will be asked to voluntarily complete feedback surveys. Respondents will do no preparation or records retention; individual input will be aggregated and remain confidential. EPA staff and managers will use a series of feedback surveys and will not deviate from the OMB-approved questions. Questionnaires will be short, easy for staff to use and respondents to complete. Results will be immediately applied to improve similar events; to assist in evaluating and improving individual events such as hearings, meetings, listening sessions, small group discussions, stakeholder negotiations, Federal Advisory Committee Act group meetings, community advisory group meetings, etc; and to improve the consistency and effectiveness of public involvement practices and processes agency wide. An Agency may not conduct or sponsor, and a person is not required to respond to, a collection of information unless it displays a currently valid OMB control number. The EPA encourages comments to:

(i) Evaluate or suggest whether the proposed collection of information is necessary for the proper performance of Agency functions, including whether the information has practical utility;

(ii) evaluate the accuracy of the Agency's burden estimate, including the validity of the methodology and assumptions used;

(iii) enhance the quality, utility, and clarity of the information to be collected; and

(iv) minimize the burden of the collection of information on those who are to respond, including appropriate applications of information technology.

Burden: The average estimated burden for each response is 9.9 minutes. Some respondents will complete the same questionnaire several times within the ICR period. This is necessary and appropriate since only they will be able to experience changes made in response to their input. Time is the only direct respondent cost. Respondent cost was $15.46/hour wage for civilian wage and salary workers, the October 2003 Bureau of Labor Statistics figure, plus a 35% benefits factor for $20.87 per hour. The EPA estimates the following:

Year | Respondents | Burden hours | Respondent cost
2004 | 12,794 | 2,152.58 | $3.51/response.
2005 | 16,531 | 2,737.02 | $3.45/response.
2006 | 19,298 | 3,215.2 | $3.47/response.
Total | 48,623 | 8,104.8 | $3.48/response.

The average is .167 burden hours or ten minutes/response. Burden means the total time, effort or financial resources expended by persons to generate, maintain, retain or disclose or provide information to or for a Federal agency, including the time needed to: review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Dated: February 10, 2004.
Jessica L. Furey,
Associate Administrator, Office of Policy, Economics and Innovation.

[FR Doc. 04-3229 Filed 2-12-04; 8:45 am]

BILLING CODE 6560-50-P